DEPARTMENT OF COMMERCE

National Oceanic and Atmospheric Administration

[I.D. 020905A]

Endangered Species; File No. 1449

AGENCY: National Marine Fisheries Service (NMFS), National Oceanic and Atmospheric Administration (NOAA), Commerce.

ACTION: Issuance of permit.

SUMMARY: Notice is hereby given that Christine A. Tomichek, Kleinschmidt Associates, Kleinschmidt Building, 35 Pratt Street, Essex, Connecticut, 06426, has been issued a permit to take shortnose sturgeon (Acipenser brevirostrum) for purposes of scientific research.

ADDRESSES: The permit and related documents are available for review upon written request or by appointment in the following office(s):

Permits, Conservation and Education Division, Office of Protected Resources, NMFS, 1315 East-West Highway, Room 13705, Silver Spring, MD 20910; phone (301) 713-2289; fax (301) 427-2521; and

Northeast Region, NMFS, One Blackburn Drive, Gloucester, MA 01930-2298; phone (978) 281-9200; fax (978) 281-9371.

FOR FURTHER INFORMATION CONTACT: Jennifer Jefferies or Amy Sloan, (301)713-2289.

SUPPLEMENTARY INFORMATION: On August 18, 2004, notice was published in the Federal Register (69 FR 51267) that a request for a scientific research permit to take shortnose sturgeon had been submitted by the above-named individual. The requested permit has been issued under the authority of the Endangered Species Act of 1973, as amended (ESA; 16 U.S.C. 1531 et seq.) and the regulations governing the taking, importing, and exporting of endangered and threatened species (50 CFR parts 222-226).

Ms. Tomichek is authorized to conduct three projects. In the first project, 30 captively bred juvenile sturgeon will be externally radio tagged, released into the canal, tracked and recaptured after exiting the canal. In the second project, 50 adult sturgeon will be captured annually for four years via trawls and gillnets, measured, weighed, a subset of 20 PIT tagged and externally radio tagged, released and tracked. In the third project, 200 eggs and larvae will be captured via D-nets and preserved to evaluate spawning behavior. This permit is authorized for five years.

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit (1) was applied for in good faith, (2) will not operate to the disadvantage of the endangered species which is the subject of this permit, and (3) is consistent with the purposes and policies set forth in section 2 of the ESA.

Dated: March14, 2005.
Steve L. Leathery,
Chief, Permits, Conservation and Education Division, Office of Protected Resources, National Marine Fisheries Service.

[FR Doc. 05-5749 Filed 3-22-05; 8:45 am]

BILLING CODE 3510-22-S